ENVIRONMENTAL PROTECTION AGENCY

[EPA-HQ-OAR-2023-0063; FRL-12485-01-OAR]

Guidance on the Preparation of State Implementation Plan Provisions That Address the Nonattainment Area Contingency Measure Requirements for Ozone and Particulate Matter

AGENCY: Environmental Protection Agency (EPA).

ACTION: Notice of availability.

SUMMARY: Notice is hereby given that the Environmental Protection Agency (EPA) has posted on its website a final guidance document titled, “Final Guidance on the Preparation of State Implementation Plan Provisions that Address the Nonattainment Area Contingency Measure Requirements for Ozone and Particulate Matter.”

FOR FURTHER INFORMATION CONTACT: For general questions concerning this final guidance document, please contact Michael Ling, U.S. EPA, Office of Air Quality Planning and Standards, Air Quality Policy Division, C539-04, Research Triangle Park, NC 27711, telephone (919) 541-4729, email at ling.michael@epa.gov.

SUPPLEMENTARY INFORMATION:

I. General Information

How can I get copies of this guidance document and other related information?

Docket: The EPA has established a docket for this action under Docket ID No. EPA-HQ-OAR-2023-0063. All documents in the docket are listed on the https://www.regulations.gov website. Although listed in the index, some information may not be publicly available, e.g., Confidential Business Information or other information whose disclosure is restricted by statute. Certain other material, such as copyrighted material, is not placed on the internet and will be publicly available only in hard copy. Publicly available docket materials are available electronically through https://www.regulations.gov.

Agency Web Site: The EPA has a website to house the final guidance at: https://www.epa.gov/air-quality-implementation-plans/final-contingency-measures-guidance. This website includes the final guidance document, and a link to the previous website for the public comment process on the draft guidance.

What is the purpose of the EPA's guidance?

The purpose of the guidance is to assist air agencies that are required to prepare nonattainment plan State implementation plan submissions for the ozone or particulate matter National Ambient Air Quality Standard under Part D of Title I of the Clean Air Act (CAA). Specifically, the guidance focuses on the statutory requirement for those plans to include contingency measures (CMs), which are control requirements that would take effect if the EPA determines that a State has failed to attain by an applicable attainment date or failed to meet reasonable further progress related requirements. These CM requirements are specified in CAA section 172(c)(9) for nonattainment areas generally, and in CAA section 182(c)(9) for ozone nonattainment areas classified Serious and higher.

The guidance document provides a broad overview of CM requirements and prior EPA guidance (contained in section 2 of the CM guidance), much of which is unaffected by the updated guidance. The document focuses primarily on three aspects of CM guidance that the EPA is revising or updating. Specifically, the revised CM guidance: (1) recommends changes to the methodology for determining the amount of reductions that CMs should provide (described in section 3 of the of the CM guidance); (2) recommends an approach for developing an infeasibility justification for an air agency to use if it cannot identify feasible CMs in a sufficient quantity to produce the recommended amount of CM emission reductions (described in section 4 of the CM guidance); and (3) recommends changes to the time period within which reductions from CMs should occur following a triggering event (described in section 5 of the CM guidance).

The EPA accepted comments on the draft guidance from March 23, 2023, through April 24, 2023. The EPA received comments from 24 entities. All comments received by the EPA are included in the docket for this guidance. The EPA thoroughly considered the points raised in the comments in the development of this final guidance.

Scott Mathias,
Director, Air Quality Planning Division.

[FR Doc. 2024-29468 Filed 12-13-24; 8:45 am]

BILLING CODE 6560-50-P